Proclamation 10308 of November 12, 2021

America Recycles Day, 2021

By the President of the United States of America

A Proclamation

In recent months, I have traveled across the country to see firsthand the devastating toll of climate change. I have walked down streets in Louisiana, New Jersey, and New York where deadly storms and floods have destroyed the lives of working families, wiping homes and businesses off the map. I have sat with firefighters in Boise, Idaho, and surveyed damage from the Caldor Fire in northern California—just one large wildfire among dozens that together have burned more acres of American land this year than make up the State of New Jersey. Communities encompassing the homes of more than 100 million people—about 1 in 3 Americans—have been struck by extreme weather events in the last few months alone. Climate change is a blinking code red for our Nation.

This crisis poses an existential threat, but we also know that it is within our power to defeat it. Today, half of all global greenhouse gas emissions are created when natural resources are taken from the Earth and made into usable products. By reducing, reusing, and recycling, we can decrease waste and the greenhouse gases that fuel the climate crisis while protecting our communities and our environment. On America Recycles Day, we celebrate efforts across the country to manage our resources responsibly and creatively, and we recommit ourselves to building a brighter and more sustainable future for all people.

Although we have made significant progress since the first America Recycles Day over 2 decades ago, we still have work to do. Black, Brown, Indigenous, and low-income communities continue to be disproportionately impacted by higher pollution levels as well as detrimental health and environmental impacts from mismanaged waste. Our Nation's infrastructure has not kept pace with today's changing waste stream, and markets for recycled materials are decreasing. To improve our national recycling system and manage our precious resources equitably and sustainably, it is going to take all of us—including Federal, State, Tribal, and local governments, our partners in the private sector, and individual Americans making a difference in their communities. We must continue to work together to properly recycle and manage materials throughout their lifecycles and ensure that every American's right to a healthy environment is fulfilled and protected.

To help our Nation achieve our environmental and recycling goals, my Administration is releasing a National Recycling Strategy, which identifies objectives and actions necessary to help fight climate change and create a sustainable national recycling system. The actions this strategy recommends will help us reach our national recycling goal, and the Federal Government will lead by example across our Federal buildings, lands, and national parks. The strategy also aims to increase access to recycling so that all Americans can meaningfully participate while ensuring that our solid waste management system does not disproportionately affect communities that are already overburdened with environmental impacts. Our workplaces, communities, and Federal, State, Tribal, and local governments can all take part in reshaping our recycling system into one that puts the United States at the forefront of environmental stewardship. You can visit www.epa.gov/recycle for more information on reducing, reusing, and recycling.

As we continue to pursue bold action to tackle climate change, we can all do our part to create a more sustainable future by making simple changes in our own lives. Today and every day, we reaffirm our commitment to preserving our precious resources and creating a healthier, cleaner, more just world for our children and future generations.

NOW, THEREFORE, I, JOSEPH R. BIDEN JR., President of the United States of America, by virtue of the authority vested in me by the Constitution and the laws of the United States, do hereby proclaim November 15, 2021, as America Recycles Day. I call upon the people of the United States of America to observe this day with appropriate programs and activities, and I encourage all Americans to continue their reducing, reusing, and recycling efforts throughout the year.

IN WITNESS WHEREOF, I have hereunto set my hand this twelfth day of November, in the year of our Lord two thousand twenty-one, and of the Independence of the United States of America the two hundred and forty-sixth.

[FR Doc. 2021-25192

Filed 11-16-21; 8:45 am]

Billing code 3395-F2-P